DEPARTMENT OF HEALTH AND HUMAN SERVICES

Administration for Children and Families

Submission for Office of Management and Budget Review; Proposed Information Collection Activity; Generic Clearance for Financial Reports Used for ACF Non-Discretionary Grant Programs (Office of Management and Budget #: 0970-0510)

AGENCY: Office of Planning, Research, and Evaluation, Administration for Children and Families, U.S. Department of Health and Human Services.

AGENCY: Administration for Children and Families, Department of Health and Human Services.

ACTION: Request for public comments.

SUMMARY: The Administration for Children and Families (ACF) proposes to extend approval of the existing overarching generic clearance for Financial Reports used for ACF Non-discretionary Grant Programs (OMB #0970-0510) as well as all information collections currently approved under the overarching generic. There are no changes to the proposed types of information collection or uses of data as described in the overarching generic. The title of the collection has been updated from ACF Mandatory Grant Programs to ACF Non-Discretionary Grant Programs. This request also includes updates to three of the collections approved under this generic (GenICs): the Child Care and Development Fund (CCDF) ACF-696 Financial Report for States and Territories, the CCDF ACF-696T Financial Report for Tribal Grantees, and the Child Support Services Program Financial Reporting Forms (OCSS-34 and OCSS-396). Finally, burden estimates for the next 3 years have been adjusted based on use to date.

DATES: Comments due June 6, 2024. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing OPREinfocollection@acf.hhs.gov. Identify all requests by the title of the information collection.

SUPPLEMENTARY INFORMATION: Description: ACF programs require detailed financial information from their grantees that allows ACF to monitor various specialized cost categories within each program, to closely manage program activities, and to have sufficient financial information to enable periodic thorough and detailed audits.

The information included on the standard Federal Financial Report Form (SF-425; OMB #4040-0014) provides only minimal, bare-bones, non-program specific financial information insufficient for these purposes. This generic clearance allows ACF programs to efficiently develop and receive approval for financial reports that are tailored to specific funding recipients and the associated needs of the program. This umbrella generic is a mechanism that is available to all ACF non-discretionary grant programs to obtain OMB approval of financial forms. Currently only a small number of ACF's non-discretionary grant program financial forms are covered under this umbrella; it does not cover all ACF non-discretionary grant program financial forms.

Program offices use the information collected under this generic information collection to:

• Monitor program operations and prepare technical assistance and guidance as needed.

• Assess the effect of program changes and make informed decisions.

• Assist in the computation of the grant awards issued to each program's grantees.

• Assist in the computation of the Child Support Services program's annual incentive payments.

• Determine that child support collections are being properly distributed (Child Support Services Program only).

• Ensure funding recipients are meeting funding requirements established by Congress.

• Produce annual financial and statistical reports as may be required by Congress and respond to periodic detailed inquiries from Congress.

ACF may require an information collection approved under this generic from funding recipients to obtain or retain benefits.

Prior to a new form being submitted for review under this umbrella generic, ACF will publish a notice in the Federal Register announcing the agency's intention to request an OMB review of the form and providing a 14-day period for public comment on that specific request. ACF will review any comments received and address them as appropriate. ACF will provide a copy of any comments received and will provide a description of how comments were considered in the submission form, along with the request package for the individual collection. ACF will then follow standard OMB requirements for a generic information collection and submit a generic information collection request for each individual data collection activity under this generic clearance. Each request will include the individual form(s) and instructions, a summary of any comments received, and a short overview of the proposed purpose and use of the data collected. ACF requests OMB to review requests within 10 days of submission.

This request includes the extension of multiple GenICs and requests updates to three of these GenICs through this revision process.

• CCDF ACF-696 Financial Report for States and Territories: ACF proposes minor updates to the ACF-696 form that include the removal of “CCDX2” which is a subaccount code not used by ACF; the removal of Column F for “Discretionary Disaster Relief Funds Construction and Major Renovation Grant Document Number CCDY” which is a program not funded by ACF; the removal of line 9(a) “was the state or territory unable to obligate at least 50% of the CCDF stabilization grants by December 11, 2021?” because this question relates to a subaccount for a program set to close by 9/30/2024; and the removal of the reallotted funds selection for COVID supplemental funds since the deadline to request reallotted funds for these subaccount awards is in the past. The instructions for this form were updated to account for the described changes, to clarify existing instructions, and to update language to reflect current Office of Child Care and Office of Grants Management policies and program instruction to recipients.

• CCDF ACF-696T Financial Report for Tribal Grantees: ACF proposes minor updates to the ACF-696 form that include the removal of “CCDX2” which is a subaccount code not used by ACF; the removal of Column F for “Discretionary Disaster Relief Funds Construction and Major Renovation Grant Document Number CCDY” which is a program not funded by ACF; the renaming of line 13a “total federal unliquidated” to “total federal obligations (not yet liquidated) (excluding construction/major renovation” to clarify what amount should be reported on this line; the addition of line 13b. “total federal obligations Into yet liquidated) for construction/major renovation” to distinguish between CCDF activities and activities for the construction or major renovation of CCDF projects; the removal of line 14(a) “was the tribal lead agency unable to obligate at least 50% of the CCDF stabilization grants by December 11, 2021? ” because this question relates to a subaccount for a program set to close by 9/30/2024; and the removal of the reallotted funds selection for COVID supplemental funds since the deadline to request reallotted funds for these subaccount awards is in the past. The instructions for this form were updated to account for the described changes, to clarify existing instructions, and to update language to reflect current Office of Child Care and Office of Grants Management policies and program instruction to recipients.

• Child Support Services Program Financial Reporting Forms (OCSS-34 and OCSS-396): The title of these forms was updated to reflect the change in name of the program office from the Office of Child Support Enforcement to the Office of Child Support Services. References to the name within the forms and instructions were also updated.

Respondents: ACF-funded non-discretionary grant programs.

Annual Burden Estimates

Find currently approved information collections here: https://www.reginfo.gov/public/do/PRAICList?ref_nbr=202308-0970-008. The request to OMB will include an extension request for the following approved collections.

Burden Estimates—Ongoing Requests

Study | Number of respondents | Number of responses per respondent | Average burden hours per response | Annual burden hours
Child Care and Development Fund (CCDF) ACF-696 Financial Report for States and Territories | 56 | 4 | 5 | 1,344
Child Care and Development Fund (CCDF) ACF-696T Financial Report for Tribal Grantees | 221 | 1 | 7 | 1,547
Child Support Services Program Financial Reporting Forms (OCSS-34 and OCSS-396) | 168 | 4 | 14 | 9,408
Form CB-496: Title IV-E Programs Quarterly Financial Report | 67 | 4 | 25 | 6,700
Refugee Cash and Medical Assistance Federal Financial Report (ORR-2) Supplemental Data Collection | 66 | 1 | 1.67 | 110
Refugee Support Services Federal Financial Report (SF-425) Supplemental Data Collection | 53 | 4 | 4 | 848
Totals: | 768 | Avg: 2.7 | Avg: 8.9 | 19,957

Burden Estimates—New Requests

Based on use of this generic, we have revised burden estimates for the next 3 years.

Instrument | Number of respondents | Number of responses per respondent | Average burden hours per response | Burden hours
Non-discretionary Grant Financial Reports | 700 | 4 | 12 | 33,600

Mary C. Jones,
ACF/OPRE Certifying Officer.

[FR Doc. 2024-09879 Filed 5-6-24; 8:45 am]

BILLING CODE 4184-88-P